DEPARTMENT OF HEALTH AND HUMAN SERVICES

Centers for Disease Control and Prevention

[Program Announcement 01154]

Expansion of Prevention, Care, and HIV/AIDS Surveillance Activities for Injection Drug Users With the Bangkok Metropolitan Administration, Bangkok, Thailand; Notice of Availability of Funds

A. Purpose

The Centers for Disease Control and Prevention (CDC) announces the availability of fiscal year (FY) 2001 funds for a cooperative agreement with the City Government of Bangkok, Thailand, Bangkok Metropolitan Administration(BMA) for the improvement and expansion of prevention, care and surveillance activities targeting HIV/AIDS and HIV/AIDS-related conditions among injection drug users (IDUs) in Bangkok, Thailand.

The purpose of this program is to improve and expand in Bangkok: (1) HIV transmission prevention capacity among IDUs. Specific prevention activities could include: (a) Strengthening HIV prevention counseling received by clients attending methadone maintenance centers; (b) developing the capacity of community-based organizations (CBOs) to do outreach, prevention counseling, and referral for IDU populations not enrolled in drug treatment programs, including incarcerated populations and youth detention centers; (c) conducting operational studies to assess the impact of current laws, pharmacy practices, and police practices on the availability and access to sterile injection equipment for IDUs and translate findings into policy documents and prevention strategies; and (d) providing a network for the routine programmatic introduction of AIDSVAX B/E if the current vaccine trial is found to be efficacious, and monitor HIV infection rates after the routine introduction of the vaccine. This network of BMA methadone detoxification clinics is also an ideal setting to provide (2) care and support services for IDUs living with HIV/AIDS (e.g., psychosocial support, enhancing opportunistic infection prevention and treatment, and monitoring use of antiretroviral drugs), and to enhance (3) surveillance efforts, including laboratory-based surveillance activities (e.g., STIs, tuberculosis [TB] and other opportunistic infections, and drug-resistant HIV strains), which will be accomplished through cooperation between CDC and the BMA. These collaborative activities could profoundly impact the scope and intensity of the implementation of the National AIDS Policy. Cooperative efforts could lead to significant improvements in the collection of critical data to support future action, a better understanding of the association between specific behaviors and HIV prevalence, improved and more responsive systems of care, and strengthened aspects of the public health infrastructure for IDUs. Since 1995, the CDC has had a strong collaboration with the Thai BMA to conduct research and related activities on HIV infection and AIDS among IDUs in order to improve understanding of the disease and provide a scientific basis for the development of public health actions in this population. The CDC seeks to broaden its mission with the BMA to include the LIFE Initiative activities outlined in this cooperative agreement request.

The U.S. Government seeks to reduce the impact of HIV/AIDS and related conditions in specific countries within sub-Saharan Africa, Asia, and the Americas through its Leadership and Investment in Fighting an Epidemic (LIFE) initiative. Through this program, CDC has initiated its Global AIDS Program (GAP) to strengthen capacity and expand activities in the areas of (1) HIV primary prevention; (2) HIV care, support, and treatment; and (3) capacity and infrastructure development, especially for surveillance. Targeted countries represent those with the most severe epidemics and the highest number of new infections. They also represent countries where the potential for impact is greatest and where U.S. Government agencies are already active. Thailand is one of these targeted countries.

To carry out its activities in these countries, CDC is working in a collaborative manner with national governments and other agencies to develop programs of assistance to address the HIV/AIDS epidemic. CDC's program of technical assistance to Thailand focuses on several areas including strengthening surveillance and laboratory measures, expanding promising prevention and care strategies, supporting behavior change communication projects, promoting technology transfer, and other capacity building efforts.

B. Eligible Applicants

Assistance will be provided only to the BMA, Kingdom of Thailand. No other applications are solicited.

The BMA is the only appropriate and qualified organization to fulfill the requirements set forth in this announcement for the following reasons:

1. The BMA is directly responsible for the implementation, monitoring and evaluation of population-based HIV/AIDS prevention and care policies and services in Bangkok.

2. The BMA is uniquely positioned, in terms of city government authority, mandate and ability to oversee and safeguard public health, and to collect and analyze information and disseminate surveillance and health system performance reports related to the prevalence and incidence of HIV/AIDS, HIV/AIDS-related conditions and other health issues in Bangkok.

3. The BMA has in place in metropolitan Bangkok, the hospitals and clinic structures required to immediately engage in the activities listed in this announcement.

C. Availability of Funds

Approximately $100,000 is available in FY 2001, to fund this agreement. It is expected that the awards will begin on or about September 30, 2001, and will be made for a 12-month budget period within a project period of five years. Annual funding estimates may change. Continuation awards within the approved project period will be made on the basis of satisfactory progress as evidenced by required reports and the availability of funds.

All requests for funds, including the budget contained in the application, shall be stated in U.S. dollars. Once an award is made, the Department of Health and Human Services (DHHS) will not compensate foreign grantees for currency exchange fluctuations through the issuance of supplemental awards.

Use of Funds

Funds received from this announcement may not be used for the purchase of antiretroviral drugs for treatment of established HIV infection (with the exception nevirapine in PMTCT cases and with prior written approval), occupational exposures, and non-occupational exposures and will not be used for the purchase of machines and reagents to conduct the necessary laboratory monitoring for patient care.

No funds awarded under this announcement shall be used to carry out any program of distributing sterile needles or syringes for the hypodermic injection of any illegal drug.

Applicants may contract with other organizations under these cooperative agreements, however, applicants must perform a substantial portion of the activities (including program management and operations and delivery of prevention services) for which funds are requested.

The costs that are generally allowable in grants to domestic organizations are likewise allowable to foreign institutions and international organizations, with the following exceptions:

Indirect Costs: With the exception of the American University, Beirut, the Gorgas Memorial Institute, and the World Health Organization, indirect costs will not be paid (either directly or through a sub-award) to organizations located outside the territorial limits of the United States or to international organizations regardless of their location.

D. Where To Obtain Additional Information

This and other CDC announcements can be found on the CDC home page Internet address—http://www.cdc.gov. Click on “Funding” then “Grants and Cooperative Agreements.”

If you have questions after reviewing the contents of all the documents, business management technical assistance may be obtained from: Dorimar Rosado, Grants Management Specialist, Grants Management Branch, Procurement and Grants Office, Centers for Disease Control and Prevention 2920 Brandywine Road, Room 3000, Atlanta, GA 30341-4146, Telephone: (770) 488-2782, E-mail: dpr7@cdc.gov.

For program technical assistance, contact: Jordan W. Tappero, MD, MPH, Director, Thailand-CDC Collaboration, Director, The HIV/AIDS Program, DMS 6 Building, Ministry of Public Health, Tivanon Road, Nonthaburi 11000, THAILAND, Telephone: (66 2) 591 8358, Fax: (66 2) 591 5443, Mobile: (66 1) 755 9011, E-mail: jwt0@cdc.gov.

Dated: July 19, 2001.
John L. Williams,
Director, Procurement and Grants Office, Centers for Disease Control and Prevention (CDC).

[FR Doc. 01-18462 Filed 7-24-01; 8:45 am]

BILLING CODE 4163-18-P